DEPARTMENT OF AGRICULTURE

Animal and Plant Health Inspection Service

7 CFR Part 319

[Docket No. APHIS-2019-0015]

Importation of Phalaenopsis Spp. Orchid Plants for Planting in Approved Growing Media From the Republic of Costa Rica Into the United States

AGENCY: Animal and Plant Health Inspection Service, USDA.

ACTION: Notice.

SUMMARY: We are proposing to authorize the importation of Phalaenopsis spp. orchid plants from the Republic of Costa Rica in approved growing media into the United States, including territories. As a condition of entry, Phalaenopsis spp. orchid plants in approved growing media from the Republic of Costa Rica would have to meet all relevant requirements included in the U.S. Department of Agriculture Plants for Planting Manual and detailed in a bilateral workplan. This proposed action would allow for the importation of Phalaenopsis spp. orchid plants for planting from the Republic of Costa Rica in approved growing media while providing protection against the introduction of plant pests.

DATES: We will consider all comments that we receive on or before May 4, 2020.

ADDRESSES: You may submit comments by either of the following methods:

• Federal eRulemaking Portal: Go to http://www.regulations.gov/#!docketDetail;D=APHIS-2019-0015.

• Postal Mail/Commercial Delivery: Send your comment to Docket No. APHIS-2019-0015, Regulatory Analysis and Development, PPD, APHIS, Station 3A-03.8, 4700 River Road Unit 118, Riverdale, MD 20737-1238.

Supporting documents and any comments we receive on this docket may be viewed at http://www.regulations.gov/#!docketDetail;D=APHIS-2019-0015 or in our reading room, which is located in Room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Ms. Lydia E. Colón, Senior Regulatory Specialist, PPQ, APHIS, 4700 River Road Unit 133, Riverdale, MD 20737-1236; (301) 851-2302; Lydia.e.colon@usda.gov.

SUPPLEMENTARY INFORMATION:

Background

Under the regulations in “Subpart H—Plants for Planting” (7 CFR 319.37-1 through 319.37-23, referred to below as the regulations), the Animal and Plant Health Inspection Service (APHIS) of the U.S. Department of Agriculture (USDA) prohibits or restricts the importation of plants for planting (including living plants, plant parts, seeds, and plant cuttings) to prevent the introduction of quarantine pests into the United States.

Section 319.37-10 restricts the importation of plants for planting in approved growing media, with exceptions. Paragraph (d) of § 319.37-10 states that certain types of plants for planting, as listed in the USDA Plants for Planting Manual, may be imported when they are established in a growing medium approved by the Administrator and produced in accordance with additional requirements specified in the manual.

Section 319.37-20 contains provisions for making changes to the list of plants for planting that may be imported in approved growing media, as well as restrictions for the importation of those types of plants for planting beyond the general restrictions in §§ 319.37-5 through 319.37-11. To initiate a change to the list, APHIS will publish in the Federal Register a notice for public comment announcing our proposal to add, change, or remove restrictions on the importation of a specific type of plants for planting. After close of the comment period, we will review comments and issue a second notice announcing the specific restrictions, if any, that APHIS has determined to be necessary to mitigate pest risk. Any changes to the list of types of plants for planting whose importation is subject to additional restrictions, and the specific restrictions applicable to them, will be made to the USDA Plants for Planting Manual.

Currently, the entry of Phalaenopsis spp. orchid plants in approved growing media from the Republic of Costa Rica into the United States is not authorized. The Republic of Costa Rica has requested that importation into the United States of Phalaenopsis spp. orchid plants in approved growing media be allowed pursuant to § 319.37-10(d).

To be eligible for importation, plants for planting in approved growing media must be of approved plant taxa and come from a facility that is part of an approved growing media program approved by APHIS. Basic requirements ¹ applicable to all plant taxa in approved growing media are listed in Chapter 7 of the USDA Plants for Planting Manual. Among these basic requirements, taxa imported in approved growing media from approved facilities must:

¹ The basic requirements are listed in full under “Plants in Growing Media Program” in Chapter 7 of the Plants for Planting Manual: https://www.aphis.usda.gov/import_export/plants/manuals/ports/downloads/plants_for_planting.pdf.

• Be accompanied by a phytosanitary certificate issued by the national plant protection organization (NPPO) of the country in which the plants were grown;

• Be only in approved growing media;

• Be grown in compliance with a written agreement (bilateral work plan);

• Be developed from mother stock that was inspected and found free from evidence of quarantine pests;

• Be grown solely in a greenhouse in which sanitary procedures adequate to exclude quarantine pests are always employed;

• Be rooted and grown in an active state of foliar growth for at least four consecutive months immediately prior to importation into the United States;

• Be grown from seeds germinated in the greenhouse unit; or descended from a mother plant that was grown for at least 9 months in the exporting country prior to importation into the United States of the descendant plants;

• Be watered only with rainwater that has been boiled or pasteurized, with clean well water, or with potable water;

• Be rooted and grown in approved growing media;

• Be stored and packaged only in areas free of sand, soil, earth, and quarantine pests; and

• Be inspected in the greenhouse and found free from evidence of quarantine pests by an APHIS inspector or an inspector of the NPPO of the exporting country.

In addition, the grower is required to comply with the provisions of the program and to allow inspectors, and representatives of the NPPO of the exporting country, access to where the plants are grown. These requirements have been used successfully to mitigate the risk of pest introduction associated with the importation into the United States of approved plants established in approved growing media.

Beyond the basic requirements for import eligibility applicable to all taxa in approved growing media, the Plants for Planting Manual contains approved growing media program requirements specific to plant taxa and the country in which they are grown. Programs for importation of Phalaenopsis spp. orchid plants in approved growing media from approved facilities have been established for three countries: China, South Korea, and Taiwan.

In response to the request by the Republic of Costa Rica, we conducted a pest risk assessment to evaluate the risk to the United States, including territories, of importation of Phalaenopsis spp. orchid plants in approved growing media from the Republic of Costa Rica. After a review of the scientific literature, port-of-entry pest interception data, and information from the NPPO of the Republic of Costa Rica, we conducted a pest risk assessment listing all potential pests with actionable regulatory status for the United States and its territories that occur in the Republic of Costa Rica and are associated with Phalaenopsis spp. orchid plants anywhere in the world. We analyzed the pest risk potential of these organisms and determined that only one, Pseudococcus cryptus Hempel, a mealybug, is a candidate for risk management measures because it meets the threshold to likely cause unacceptable consequences if introduced into the United States.

Based on the findings in the pest risk assessment, we prepared a risk management document (RMD) ² to determine mitigations that will adequately prevent the introduction of Pseudococcus cryptus Hempel into the United States via Phalaenopsis spp. orchid plants in approved growing media from Republic of Costa Rica. In order for Phalaenopsis spp. orchid plants to be safely imported into the United States from the Republic of Costa Rica, the RMD specifies that the plants must be grown in approved growing media and meet the requirements outlined in the USDA Plants for Planting Manual. These requirements are detailed in a written agreement between APHIS and the Republic of Costa Rica regarding risk management measures to prevent the entry of quarantine plant pests.

² The RMD can be viewed on the Regulations.gov website (see the link under ADDRESSES) or by contacting the person listed under FOR FURTHER INFORMATION CONTACT.

We have determined that these requirements will be sufficient to prevent the introduction of quarantine pests into the United States, including territories, via importation of Phalaenopsis spp. orchid plants in approved growing media from the Republic of Costa Rica. Therefore, we propose to amend the import requirements in the USDA Plants for Planting Manual by adding Phalaenopsis spp. orchid plants from the Republic of Costa Rica to the approved list of plant taxa established in approved growing media.

Pursuant to the Congressional Review Act (5 U.S.C. 801 et seq.), the Office of Information and Regulatory Affairs designated this rule as not a major rule, as defined by 5 U.S.C. 804(2).

Done in Washington, DC, this 25th day of February 2020.
Kevin Shea,
Administrator, Animal and Plant Health Inspection Service.

[FR Doc. 2020-04282 Filed 3-2-20; 8:45 am]

BILLING CODE 3410-34-P